DEPARTMENT OF THE TREASURY

Internal Revenue Service

Open Meeting of the Taxpayer Advocacy Panel's Special Projects Committee

AGENCY: Internal Revenue Service (IRS), Treasury.

ACTION: Notice of change of meeting date.

SUMMARY: In the Federal Register notice that was originally published on December 28, 2015, (Volume 80, Number 248, Page 80878), the meeting date is now changed. The new dates for the meeting are, Thursday, March 3, 2016 and Friday, March 4, 2016.

DATES: The meeting will be held Thursday, March 3, 2016 and Friday, March 4, 2016.

FOR FURTHER INFORMATION CONTACT: Kim Vinci at 1-888-912-1227 or 916-974-5086.

SUPPLEMENTARY INFORMATION: Notice is hereby given pursuant to Section 10(a)(2) of the Federal Advisory Committee Act, 5 U.S.C. App. (1988) that an open meeting of the Taxpayer Advocacy Panel's Special Projects Committee will be held Thursday, March 3, 2016, from 8:00 a.m. to 4:30 p.m. Mountain Time and Friday, March 4, 2016, from 8:00 a.m. until 12:00 p.m. Mountain Time at the IRS Office, 5338 Montgomery Blvd., Albuquerque, New Mexico 87109-1338. The public is invited to make oral comments or submit written statements for consideration. Due to limited time and structure of meeting, notification of intent to participate must be made with Kim Vinci. For more information please contact Kim Vinci at 1-888-912-1227 or 916-974-5086, or write TAP Office, 4330 Watt Ave Sacramento, CA 95821-7012 or contact us at the Web site: http://www.improveirs.org. The agenda will include various IRS issues.

Dated: January 7, 2016.
Antoinette Ross,
Acting Director, Taxpayer Advocacy Panel.

[FR Doc. 2016-00558 Filed 1-13-16; 8:45 am]

BILLING CODE 4830-01-P